DEPARTMENT OF HEALTH AND HUMAN SERVICES

Health Resources and Services Administration

Agency Information Collection Activities: Proposed Collection: Public Comment Request; Information Collection Request Title: National Survey of Organ Donation Attitudes and Practices, OMB No. 0915-0290—Reinstatement With Change

AGENCY: Health Resources and Services Administration (HRSA), Department of Health and Human Services.

ACTION: Notice.

SUMMARY: In compliance with the Paperwork Reduction Act of 1995, HRSA announces plans to submit an Information Collection Request (ICR), described below, to the Office of Management and Budget (OMB). The ICR is for reinstatement with change of a previously approved information collection, assigned OMB control number 0915-0290, which expired on March 31, 2015. Prior to submitting the ICR to OMB, HRSA seeks comments from the public regarding the burden estimate below or any other aspect of the ICR.

DATES: Comments on this ICR should be received no later than April 10, 2018.

ADDRESSES: Submit your comments to paperwork@hrsa.gov or mail the HRSA Information Collection Clearance Officer, 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference, in compliance with Section 3506(c)(2)(A) of the Paperwork Reduction Act of 1995.

Information Collection Request Title: National Survey of Organ Donation Attitudes and Practices, OMB No. 0915-0290—Reinstatement With Change

Abstract: HRSA is requesting approval from OMB for a reinstatement with change of a previously approved collection of information (OMB control number 0915-0290). The National Survey of Organ Donation Attitudes and Practices (NSODAP) is conducted approximately every 6-7 years and serves a critical role in providing HRSA and the donation community with data regarding why Americans choose to donate organs, current barriers to donation, and potential new approaches to increasing donations. Survey data and derived analytic insights inform HRSA's public outreach and educational initiatives. HRSA is improving the quality and relevance of the data collected by making the following changes:

(1) HRSA is increasing the ability to produce more precise results by targeting 10,000 completed surveys (increased from 3,250 in 2012). This increase will allow for a more accurate and robust analysis of the attitudes and donation practices of important subgroups such as Americans over the age of 50 and various minority populations. While the precision of the results from the survey will increase, respondent burden will be reduced and survey completion costs will be lower resulting in a cost neutral change.

(2) HRSA is streamlining the data collection process to minimize respondent burden. Of the 10,000 targeted completed surveys, 8,000 will be completed online by a nationally representative web panel composed of Americans over the age of 18 who have already agreed to participate in a survey. Web panels target a representative section of a population used by other approved surveys. HRSA will complete the remaining 2,000 surveys by telephone. In 2012, all 3,250 surveys were conducted by telephone and respondents were contacted using random-digit dialing, a process that yielded a low response rate. Contacting respondents by telephone will remain a part of the survey protocol to compare current data to the 2012 data. However, for this survey, identification of a sample of adults over the age of 18 for a telephone survey will be from a national list of home addresses. Prior to contact, those selected for the telephone survey will receive a mailed pre-notification letter with information about the survey. This mailing will improve survey cooperation and reduce the number of people contacted for the survey. Additionally, it is more time and cost effective to take the survey online than taking the survey by phone as the average response will be 0.1 hour shorter, and the cost of online survey can range $3-$4 per survey compared to $50-$100 for a high quality phone survey.

To improve the relevance of the data collected, HRSA solicited approximately 40 organ donation subject matter experts for their feedback on making changes to the survey. Based on their expert advice, HRSA is revising the instrument to add, remove, or edit a few questions as noted in the draft survey instrument. Example changes include removing certain questions that were only relevant for a random-digit-dialing sample design, editing certain questions to add clarity, and adding questions to highlight emerging topics such as receiving organ donation information through a hand-held device or mobile apps.

Need and Proposed Use of the Information: HRSA is the primary federal entity responsible for oversight of the solid organ and blood stem cell transplant systems and initiatives to increase organ donor registration and donation in the United States. This survey is the primary method by which HRSA can obtain information from Americans about organ donation attitudes and beliefs. OMB previously approved this survey and HRSA fielded it during 2005 and 2012. Results of the data collected from this survey will inform the development of appropriate messages for future public outreach and educational initiatives. Increasing the number of completed cases via a web panel for online survey completion and modifying the survey instrument without increasing the survey length will dramatically improve the quality and accuracy of the results while minimizing respondent burden as much as possible. The revised instrument and survey fielding methods will allow research on the attitudes and behaviors of important subgroups of Americans as well as research on emerging topics related to organ donation.

Likely Respondents: A nationally representative sample of adults over the age of 18 with a higher number of responses from populations of interest such as racial-ethnic minorities, including African American, Asian, Native American, and Hispanic respondents, as well as respondents of all age groups and education levels.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. A summary of the total annual burden hours estimated for this ICR is in the table below.

Total Estimated Annualized Burden Hours
Form name | Number of respondents | Number of responses per respondent | Total responses | Average burden per response (in hours) | Total burden hours
NSODAP Revised Survey—Telephone | 2,000 | 1 | 2,000 | 0.3 | 600
NSODAP Revised Survey—Online Panel | 8,000 | 1 | 8,000 | 0.2 | 1,600
Total | 10,000 |  | 10,000 |  | 2,200

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Amy McNulty,
Acting Director, Division of the Executive Secretariat.

[FR Doc. 2018-02595 Filed 2-8-18; 8:45 am]

BILLING CODE 4165-15-P